DEPARTMENT OF STATE

[Public Notice 3300]

Culturally Significant Objects Imported for Exhibition Determinations: “Chardin”

AGENCY: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority of October 19, 1999, I hereby determine that the objects to be included in the exhibition “Chardin,” imported from abroad for the temporary exhibition without profit within the United States, are of cultural significance. These objects are imported pursuant to loan agreements with foreign lenders. I also determine that the exhibition or display of the exhibit objects at The Metropolitan Museum of Art, New York, NY from on or about June 19 to on or about September 3, 2000 is in the national interest. Public Notice of these Determinations is ordered to be published in the Federal Register.

FOR FURTHER INFORMATION CONTACT: For further information, including a list of exhibit objects, contact Carol Epstein, Attorney-Adviser, Office of the Legal Adviser, U.S. Department of State (telephone: 202/619-6981). The address is U.S. Department of State, SA-44; 301 4th Street, SW., Room 700, Washington, DC 20547-0001.

Dated: April 19, 2000.
William P. Kiehl,
Acting Assistant Secretary for Educational and Cultural Affairs, Department of State.

[FR Doc. 00-10510 Filed 4-26-00; 8:45 am]

BILLING CODE 4710-08-U